DEPARTMENT OF THE INTERIOR

National Park Service

[NPS-WASO-NAGPRA-NPS0039186; PPWOCRADN0-PCU00RP14.R50000]

Notice of Inventory Completion: The Kikuchi Center at Kaua'i Community College, Līhu'e, HI

AGENCY: National Park Service, Interior.

ACTION: Notice.

SUMMARY: In accordance with the Native American Graves Protection and Repatriation Act (NAGPRA), the Kikuchi Center at Kaua'i Community College has completed an inventory of human remains and associated funerary objects and has determined that there is a cultural affiliation between the human remains and associated funerary objects and Indian Tribes or Native Hawaiian organizations in this notice.

DATES: Repatriation of the human remains and associated funerary objects in this notice may occur on or after January 13, 2025.

ADDRESSES: Jason Ford, The Kikuchi Center at Kaua'i Community College, 3-1901 Kaumuali'i Highway, Līhu'e, HI 96766, telephone (808) 245-8236, email jford9@hawaii.edu.

SUPPLEMENTARY INFORMATION: This notice is published as part of the National Park Service's administrative responsibilities under NAGPRA. The determinations in this notice are the sole responsibility of the Kikuchi Center at Kaua'i Community College, and additional information on the determinations in this notice, including the results of consultation, can be found in its inventory or related records. The National Park Service is not responsible for the determinations in this notice.

Abstract of Information Available

Human remains representing, at least, five individuals have been identified. This includes 15 associated funerary objects which are pearl shell fish hook blanks and pre-form fish hooks, sea urchin files, and basalt fragments. They were identified during the processing of the materials held by the Kikuchi Center at Kaua'i Community College.

The Kikuchi Center is an archive curating the work of Dr. William Kikuchi. Dr. Kikuchi co-founded the Archaeology Research Center of Hawai'i, ARCH, with Francis Ching, Jr. At an unknown date, he inherited a collection of ARCH project materials, including ARCH project 14-42 II. This project was an archaeological surface survey at Kiahuna, Kōloa, Kona, Kaua'i. These materials were excavated circa 1980, and the founding of the Kikuchi Center and processing of these materials began in 2022. In March of 2024, an osteologist analyzed the bones in the collection and positively identified the listed bones as human. They are associated with Native Hawaiian sites and cultural layers. The modified bones listed here are unidentifiable, but because of their association with positively identified iwi kupuna, they are being treated as human. Unidentifiable bones associated with positively identified iwi kupuna are also listed.

Dr. Kikuchi was also a professor at Kaua'i Community College. He established the Anthropology Club at Kaua'i Community College circa 1975. In July of 1975, he and the club began excavating at the Weli K-10 site, SIHP number 50-30-09-3050. This site is identified as a shelter cave, located in Wahiawa, moku of Kona, Kaua'i. The positively identified iwi kupuna from this site are from pits B, C and D, and are associated with Native Hawaiian cultural layers including 15 associated funerary objects. Item: Human remains Site Name: ARCH 14-42 II, Sites 206 and 304 Geographical Location: Kiahuna, Kōloa, Kona, Kaua'i.

Cultural Affiliation

Based on the information available and the results of consultation, cultural affiliation is reasonably identified by the geographical location or acquisition history of the human remains and associated funerary objects described in this notice.

Determinations

The Kikuchi Center at Kaua'i Community College has determined that:

• The human remains described in this notice represent the physical remains of five individuals of Native Hawaiian ancestry.

• The 15 objects described in this notice are reasonably believed to have been placed intentionally with or near individual human remains at the time of death or later as part of the death rite or ceremony.

• There is a connection between the human remains and associated funerary objects described in this notice and the Kaua'i/Ni'ihau Island Burial Council; Ke Kahu O Kaneiolouma; and E Ola Kakou Hawaii.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 13, 2025. If competing requests for repatriation are received, the Kikuchi Center at Kaua'i Community College must determine the most appropriate requestor prior to repatriation. Requests for joint repatriation of the human remains and associated funerary objects are considered a single request and not competing requests. The Kikuchi Center at Kaua'i Community College is responsible for sending a copy of this notice to the Indian Tribes and Native Hawaiian organizations identified in this notice.

Authority: Native American Graves Protection and Repatriation Act, 25 U.S.C. 3003, and the implementing regulations, 43 CFR 10.10.

Dated: December 4, 2024.
Melanie O'Brien,
Manager, National NAGPRA Program.

[FR Doc. 2024-29261 Filed 12-11-24; 8:45 am]

BILLING CODE 4312-52-P